DEPARTMENT OF HEALTH AND HUMAN SERVICES

Centers for Disease Control and Prevention

[60Day-05-AC]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 498-1210. CDC is requesting an emergency clearance for this data collection with a two week public comment period. CDC is requesting OMB approval of this package 7 days after the end of the public comment period.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Seleda M. Perryman, CDC Assistant Reports Clearance Officer, 1600 Clifton Road, MS-D24, Atlanta, GA 30333 or send an e-mail to omb@cdc.gov. Written comments should be received within 14 days of this notice.

Proposed Project

Severe Acute Respiratory Syndrome (SARS) Research—New—National Center for Infectious Diseases (NCID), Centers for Disease Control and Prevention (CDC).

As part of the effort taken by CDC to learn more about the epidemiology and clinical dynamics of infection with Severe Acute Respiratory Syndrome (SARS) coronavirus, CDC's National Center for Infectious Diseases would like to collect information in the event of a re-emergence of SARS. Protocols have been developed for the study of SARS transmission, dynamics of infection and SARS infection during pregnancy. Information on symptoms of illness, activities during periods of contact with a SARS case or within a SARS-affected area and outcomes of illness will be requested from SARS case-patients, contacts of SARS case-patients, health care professionals and state and local public health providers. Data will be used for research to contribute to the global understanding of SARS illness and refine methods of SARS infection control. Expedited clearance is necessary so that data may be collected immediately in the event of SARS re-emergence this fall. There is no cost to the respondents.

Form | Respondents | No. of Respondents | Estimated No. of responses/respondent | Avg. burden per response (in hours) | Total burden (hours)
1. Transmission protocol: Clinical Baseline Questionnaire for SARS Cases | Health departments, clinicians | 100 | 1 | 1 | 100
2. Transmission protocol: Follow-up Questionnaire | SARS cases and contacts | 500 | 5 | 10/60 | 417
3. Transmission protocol: Characterization of SARS Tool for Data Collection | Health departments, clinicians | 50 | 1 | 1 | 50
4. Transmission protocol: Baseline Questionnaire for Contacts | Health departments | 300 | 1 | 15/60 | 75
5. Transmission protocol: Questionnaire for Household Information | Health departments | 300 | 1 | 10/60 | 50
6. Transmission protocol: Questionnaire for Close Household Contacts | Health departments, clinicians | 300 | 1 | 15/60 | 75
7. Transmission protocol: Questionnaire for Airline Contacts | Quarantine officers, health dept. | 1,000 | 1 | 30/60 | 500
8. Transmission protocol: Questionnaire for Health Care Worker Contacts | Health departments, clinicians | 300 | 1 | 15/60 | 75
9. Pregnancy protocol: Pregnancy, Delivery and Follow-up Data Collection Tools | Health departments, clinicians | 50 | 1 | 40/60 | 33
Total |  | 2900 |  |  | 1375

Dated: October 8, 2004.
Alvin Hall,
Director, Management Analysis and Services Office, Centers for Disease Control and Prevention.

[FR Doc. 04-23219 Filed 10-15-04; 8:45 am]

BILLING CODE 4163-18-P